DEPARTMENT OF HEALTH AND HUMAN SERVICES

Food and Drug Administration

[Docket No. 2003N-0482]

Agency Information Collection Activities; Submission for Office of Management and Budget Review; Comment Request; Mammography Facilities, Standards, and Lay Summaries for Patients

AGENCY: Food and Drug Administration, HHS.

ACTION: Notice.

SUMMARY: The Food and Drug Administration (FDA) is announcing that a proposed collection of information has been submitted to the Office of Management and Budget (OMB) for review and clearance under the Paperwork Reduction Act of 1995.

DATES: Fax written comments on the collection of information by March 10, 2004.

ADDRESSES: The Office of Management and Budget (OMB) is still experiencing significant delays in the regular mail, including first class and express mail, and messenger deliveries are not being accepted. To ensure that comments on the information collection are received, OMB recommends that comments be faxed to the Office of Information and Regulatory Affairs, OMB, Attn: Fumie Yokota, Desk Officer for FDA, FAX: 202-395-6974.

FOR FURTHER INFORMATION CONTACT: Peggy Robbins, Office of Management Programs (HFA-250), Food and Drug Administration, 5600 Fishers Lane, Rockville, MD 20857, 301-827-1223.

SUPPLEMENTARY INFORMATION: In compliance with 44 U.S.C. 3507, FDA has submitted the following proposed collection of information to OMB for review and clearance.

Mammography Facilities, Standards, and Lay Summaries for Patients—21 CFR Part 900 (OMB Control Number 0910-0309)—Extension

Public Law 102-539, the Mammography Quality Standards Act of 1992 (MQSA) (42 U.S.C. 263b) as amended by the Mammography Quality Standards Reauthorization Act (MQSRA) of 1998 (Public Law 105-248) establishes the authority for a Federal certification and inspection program for mammography facilities; regulations and standards for accreditation bodies for mammography facilities; and standards for mammography equipment, personnel, and practices, including quality assurance. MQSRA extended the life of the MQSA program for 4 years from its original expiration date of 1998 until 2002, and also modified some of the provisions. The most significant modification from a report and recordkeeping viewpoint under § 900.12(c)(2) was that mammography facilities were required to send a lay summary of each examination to the patient.

FDA, under this regulation, collects information from accreditation bodies and mammography facilities by requiring each accreditation body to submit an application for approval and to establish a quality assurance program. On the basis of accreditation, facilities are certified by FDA and must prominently display their certificate. FDA uses the information to ensure that private, nonprofit organizations or state agencies meet the standards established by FDA for accreditation bodies to accredit facilities that provide mammography services.

Information collected from mammography facilities has also been used to ensure that the personnel, equipment, and quality systems has and continues to meet the regulations under MQSA and will be used by patients to manage their health care properly. The intent of these regulations is to assure safe, reliable, and accurate mammography on a nationwide level. The most likely respondents to this information collection will be accreditation bodies and mammography facilities seeking certification.

FDA estimates the burden of this collection of information as follows:

Table 1.—Estimated Annual Reporting Burden
21 CFR Section | Number of Respondents | Annual Frequency per Response | Total Annual Responses | Hours per Response | Total Hours | Total Capital Costs | Total Operating & Maintenance Costs
900.3 | 1 | 0.33 | 0.33 | 60 | 20 |  |
900.3(b)(3) | 1 | 0.33 | 0.33 | 60 | 20 | $50 |
900.3(c) | 5 | 0.33 | 1.67 | 15 | 25 |  |
900.3(e) | 1 | 0.1 | 0.1 | 1 | 0.1 |  |
900.3(f)(2) | 1 | 0.1 | 0.1 | 200 | 20 |  |
900.4(c)&(2) | 9,200 | 0.33 | 3,067 | 1 | 3,067 |  |
900.4(e) | 9,450 | 1 | 9,450 | 8 | 75,600 |  |
900.4(f) | 276 | 1 | 276 | 7 | 1,932 |  |
900.4(h) | 5 | 1 | 6130 | 1 | 6,130 |  |
900.4(i)(2) | 1 | 0.33 | 0.33 | 1 | 0.33 |  |
900.6(c)(1) | 1 | 0.1 | 0.1 | 1 | 0.1 |  |
900.11(b)(1) | 9,200 | 0.33 | 3,067 | 2 | 6,134 |  |
900.11(b)(2) | 250 | 1 | 250 | 2 | 500 |  |
900.11(b)(3) | 5 | 1 | 5 | .5 | 2.5 |  |
900.11(c) | 9,200 | 0.04 | 368 | 5 | 1,840 |  | $1,000
900.12(c)(2) | 9,200 | 3,478 | 36,000,000 | 5 minutes | 3,000,000 |  |
900.12(j)(1) | 25 | 1 | 25 | 1 | 25 |  |
900.12(j)(2) | 25 | 0.08 | 2 | 50 | 100 |  |
900.15(c) | 9,200 | 0.05 | 46 | 2 | 92 |  |
900.15(d)(3)(ii) | 9,200 | 0.0001 | 0.92 | 2 | 1.8 |  | $10
900.18(c) | 9,300 | 0.00032 | 3 | 2 | 6 |  | $30
900.18(e) | 10 | 0.0100 | 0.1 | 1 | 0.10 |  | $10
FDA Form 3422 | 800 | 1 | 800 | .25 | 200 |  |
Total |  |  |  |  | 3,095,716 | $50 | $1,040

Table 2.—Estimated Annual Recordkeeping Burden¹
21 CFR Section | Number of Recordkeepers | Annual Frequency of Recordkeeping | Total Annual Records | Hours per Recordkeeper | Total Hours | Total Operating & Maintenance Costs
900.3(f)(1) | 5 | 0.02 | 0.1 | 200 | 20 |
900.4(g) | 1 | 0.33 | 0.33 | 1 | 0.33 |
900.12(c)(4) | 9,200 | 1 | 9,200 | 1 | 9,200 | $18,400
900.12(e)(13) | 9,200 | 52 | 478,400 | 0.125 | 59,800 |
900.12(f) | 9,200 | 1 | 9,200 | 5 | 46,000 |
900.12(h) | 9,200 | 2 | 18,400 | 0.5 | 9,200 |
Total |  |  |  |  | 124,220 | $18,400
¹There are no capital costs associated with this collection of information.

The most likely respondents to this information collection will be accreditation bodies and mammography facilities seeking certification. The total capital cost associated with these regulations is $50 (§ 900.3(b)(3)). This is a one-time start up cost associated with the application for approval as an accreditation body. The total operating and maintenance cost associated with these requirements is $19,440. This is the cost that facilities bear to maintain records under the initial and final mammography regulations.

Dated: January 29, 2004.
Jeffrey Shuren,
Assistant Commissioner for Policy.

[FR Doc. 04-2641 Filed 2-6-04; 8:45 am]

BILLING CODE 4160-01-S